DEPARTMENT OF ENERGY

Office of Energy Efficiency and Renewable Energy

[EERE-2015-BT-BC-0001]

Updating and Improving the DOE Methodology for Assessing the Cost-Effectiveness of Building Energy Codes

AGENCY: Energy Efficiency and Renewable Energy, Department of Energy.

ACTION: Notice of availability.

SUMMARY: The U.S. Department of Energy (DOE or Department) has updated its methodology for assessing the cost-effectiveness of building energy codes. The Department relies upon this methodology in evaluating both potential code changes and entire new editions of model codes, such as the International Energy Conservation Code (IECC) and the American Society of Heating, Refrigerating and Air-Conditioning Engineers (ASHRAE) Standard 90.1. DOE developed its methodology through a public process, and reviews its methods regularly to ensure its underlying analysis and assumptions remain valid.

FOR FURTHER INFORMATION CONTACT: Jeremiah Williams; U.S. Department of Energy, Office of Energy Efficiency and Renewable Energy, 1000 Independence Avenue SW. EE-5B, Washington, DC 20585; (202) 287-1941; Jeremiah.Williams@ee.doe.gov.

For legal issues, please contact Kavita Vaidyanathan; U.S. Department of Energy, Office of the General Counsel, 1000 Independence Avenue SW. GC-33, Washington, DC 20585; (202) 586-0669; Kavita.Vaidyanathan@hq.doe.gov.

SUPPLEMENTARY INFORMATION: DOE issued a recent request for information (RFI) to seek public input on proposed updates to its methodology, and as part of a regular effort to ensure its analysis and underlying assumptions remain valid (80 FR 19974).¹ The Department reviewed and considered each comment received, and has revised its methodology based on feedback resulting from the RFI. Updated methodology reports for residential and commercial buildings, respectively, are available on the DOE Building Energy Codes Program Web site:

¹ Recent request for information published in the Federal Register on April 14, 2015 (Docket No. EERE-2015-BT-BC-0001).

• Residential: https://www.energycodes.gov/development/residential/methodology.

• Commercial: https://www.energycodes.gov/development/commercial/methodology.

A summary of the changes to the DOE methodology is available in the associated public docket (EERE-2015-BT-BC-0001).² This summary provides a discussion of relevant issues considered in updating the methodology, including:

² See DOE Cost Summary of changes responding to RFI comments (09022015) found at http://www.regulations.gov/#!documentDetail;D=EERE-2015-BT-BC-0001-0021.

1. Comments which prompted revisions to the DOE methodology; and

2. Comments not resulting in a revision to the methodology, but which raised legitimate issues for which DOE wishes to provide its rationale for leaving the methodology unchanged.

In addition, a `redline' document is provided in the public docket.³ This document illustrates specific changes to the DOE methodology reports in underline and strikethrough formatting. The combination of documents is intended to ensure transparency and make the update more easily understood.

³ See Methodology for Evaluating Cost-Effectiveness of Residential Energy Code Changes (REDLINE Version) August, 2015 (PNNL-21294 Rev 1) found at http://www.regulations.gov/#!documentDetail;D=EERE-2015-BT-BC-0001-0022.

More information on the methodology, including the resulting energy and cost analysis, is available on the DOE Building Energy Codes Program Web site: www.energycodes.gov.

Issued in Washington, DC, on September 14, 2015.
David Cohan,
Manager, Building Energy Codes Program, Building Technologies Office, Energy Efficiency & Renewable Energy.

[FR Doc. 2015-25031 Filed 10-1-15; 8:45 am]

BILLING CODE 6450-01-P